DEPARTMENT OF HOMELAND SECURITY

Federal Emergency Management Agency

[Docket ID FEMA-2021-0002; Internal Agency Docket No. FEMA-B-2116]

Changes in Flood Hazard Determinations

Correction

In notice document 2021-04981, appearing on pages 13728-13730, in the issue of Wednesday, March 10, 2021, make the following correction:

The table appearing on pages 13729-13730 should read as set forth below.

State and county | Location and case No. | Chief executive officer of community | Community map repository | Online location of letter of map revision | Date of modification | Community No.
Arizona:
Maricopa | Unincorporated Areas of Maricopa County (21-09-0181X). | The Honorable Jack Sellers, Chairman, Board of Supervisors, Maricopa County, 301 West Jefferson Street, 10th Floor, Phoenix, AZ 85003. | Flood Control District of Maricopa County, 2801 West Durango Street, Phoenix, AZ 85009. | https://msc.fema.gov/portal/advanceSearch. | Apr. 30, 2021 | 040037
Mohave | City of Bullhead City (20-09-0730P). | The Honorable Tom Brady, Mayor, City of Bullhead City, 2355 Trane Road, Bullhead City, AZ 86442. | Public Works Department, 2355 Trane Road, Bullhead City, AZ 86442. | https://msc.fema.gov/portal/advanceSearch. | Jun. 9, 2021 | 040125
California:
Orange | City of Huntington Beach (20-09-0545P). | The Honorable Lyn Semeta, Mayor, City of Huntington Beach, 2000 Main Street, Huntington Beach, CA 92648. | City Hall, 2000 Main Street, Huntington Beach, CA 92648. | https://msc.fema.gov/portal/advanceSearch. | Dec. 17, 2020 | 065034
Orange | Unincorporated Areas of Orange County (20-09-0545P). | The Honorable Michelle Steel, Chair, Board of Supervisors, Orange County, 333 West Santa Ana Boulevard, Santa Ana, CA 92701. | Orange County Flood Control Division, H.G. Osborne Building, 300 North Flower Street 7th Floor, Santa Ana, CA 92703. | https://msc.fema.gov/portal/advanceSearch. | Dec. 17, 2020 | 060212
Sacramento | Unincorporated Areas of Sacramento County (20-09-0760P). | The Honorable Phil Serna, Chairman, Board of Supervisors, Sacramento County, 700 H Street, Suite 2450, Sacramento, CA 95814. | Sacramento County, Department of Water Resources, 827 7th Street, Room 301, Sacramento, CA 95814. | https://msc.fema.gov/portal/advanceSearch. | May 11, 2021 | 060262
San Bernardino | City of San Bernardino (20-09-1133P). | The Honorable John Valdivia, Mayor, City of San Bernardino, 290 North D Street, San Bernardino, CA 92401. | City Hall, 300 North D Street, San Bernardino, CA 92418. | https://msc.fema.gov/portal/advanceSearch. | Apr. 28, 2021 | 060281
San Bernardino | Unincorporated Areas of San Bernardino County (20-09-1133P). | The Honorable Curt Hagman, Chairman, Board of Supervisors, San Bernardino County, 385 North Arrowhead Avenue, 5th Floor, San Bernardino, CA 92415. | San Bernardino County Public Works, Water Resources Department, 825 East 3rd Street, San Bernardino, CA 92415. | https://msc.fema.gov/portal/advanceSearch. | Apr. 28, 2021 | 060270
San Mateo County | City of Belmont (20-09-1412P). | The Honorable Charles Stone, Mayor, City of Belmont, 1 Twin Pines Lane, Belmont, CA 94002. | Public Works Department, 1 Twin Pines Lane, Belmont, CA 94002. | https://msc.fema.gov/portal/advanceSearch. | May 20, 2021 | 065016
Illinois:
Cook | City of Markham (20-05-2119P). | The Honorable Roger A. Agpawa, Mayor, City of Markham, 16313 Kedzie Parkway, Markham, IL 60428. | City Hall, 16313 South Kedzie Parkway, Markham, IL 60428. | https://msc.fema.gov/portal/advanceSearch. | Jun. 16, 2021 | 175169
Cook | Unincorporated Areas of Cook County (20-05-2119P). | The Honorable Toni Preckwinkle, County Board President Cook County, 118 North Clark Street, Room 537, Chicago, IL 60602. | Cook County Building and Zoning Department, 69 West Washington, Suite 2830, Chicago, IL 60602. | https://msc.fema.gov/portal/advanceSearch. | Jun. 16, 2021 | 170054
DuPage | Village of Lisle (20-05-3529P). | The Honorable Christopher Pecak, Mayor, Village of Lisle, 925 Burlington Avenue, Lisle, IL 60532. | Village Hall, 925 Burlington Avenue, Lisle, IL 60532. | https://msc.fema.gov/portal/advanceSearch. | Jun. 1, 2021 | 170211
Will | City of Lockport (21-05-0834P). | The Honorable Steven Streit, Mayor, City of Lockport, 222 East 9th Street, Lockport, IL 60441. | Public Works and Engineering, 17112 South Prime Boulevard, Lockport, IL 60441. | https://msc.fema.gov/portal/advanceSearch. | Jun. 11, 2021 | 170703
Will | Unincorporated Areas of Will County (21-05-0834P). | The Honorable Jennifer Bertino-Tarrant, Will County Executive, Will County Office Building, 302 North Chicago Street, Joliet, IL 60432. | Land Use Department, 58 East Clinton Street, Suite 100, Joliet, IL 60432. | https://msc.fema.gov/portal/advanceSearch. | Jun. 11, 2021 | 170695
Indiana: Marion | City of Indianapolis (20-05-3684P). | The Honorable Joe Hogsett, Mayor, City of Indianapolis, 200 East Washington Street, Suite 2501, Indianapolis, IN 46204. | City Hall, 1200 Madison Avenue, Suite 100, Indianapolis, IN 46225. | https://msc.fema.gov/portal/advanceSearch. | May 24, 2021 | 180159
Kansas:
Leavenworth | City of Basehor (20-07-1131P). | The Honorable David Breuer, Mayor, City of Basehor, P.O. Box 406, Basehor, KS 66007. | City Hall, 2620 North 155th Street, Basehor, KS 66007. | https://msc.fema.gov/portal/advanceSearch. | May 12, 2021 | 200187
Leavenworth | Unincorporated Areas of Leavenworth County (20-07-1131P). | Mr. Doug Smith, Chairman, Board of County Commissioners Leavenworth County, 300 Walnut Street, Suite 225, Leavenworth, KS 66048. | Leavenworth County Courthouse, 300 Walnut Street, Leavenworth, KS 66048. | https://msc.fema.gov/portal/advanceSearch. | May 12, 2021 | 200186
Michigan: Macomb | City of Fraser (20-05-3517P). | The Honorable Michael Carnagie, Mayor, City of Fraser, 33000 Garfield Road, Fraser, MI 48026. | City Hall, 33000 Garfield Road, Fraser, MI 48026. | https://msc.fema.gov/portal/advanceSearch. | May 28, 2021 | 260122
Missouri: Jasper | City of Joplin (20-07-1062P). | The Honorable Ryan Stanley, Mayor, City of Joplin, City Hall, 5th Floor, 602 South Main Street, Joplin, MO 64801. | City Hall, 602 South Main Street, Joplin, MO 64801. | https://msc.fema.gov/portal/advanceSearch. | Jun. 3, 2021 | 290183
Washington: Jefferson | Unincorporated Areas of Jefferson County (20-10-1157P). | Ms. Kate Dean, County Commissioner, Jefferson County Board of County Commissioners, P.O. Box 1220, Port Townsend, WA 98368. | Jefferson County Department of Community Development, 621 Sheridan Street, Port Townsend, WA 98368. | https://msc.fema.gov/portal/advanceSearch. | May 11, 2021 | 530069
Wisconsin: Kenosha | Village of Somers (17-05-6202P). | Mr. George Stoner, Board of Trustees President, Village of Somers, 7511 12th Street, Kenosha, WI 53171. | Village Hall, 7511 12th Street, Kenosha, WI 53144. | https://msc.fema.gov/portal/advanceSearch. | Jun. 14, 2021 | 550406

[FR Doc. C1-2021-04981 Filed 4-5-21; 8:45 am]

BILLING CODE 1301-00-D